FEDERAL COMMUNICATIONS COMMISSION

47 CFR Part 25

[MM Docket No. 93-25; FCC 03-78]

RIN 3060-AF39

Cable Television Consumer Protection and Competition Act of 1992; Direct Broadcast Satellite Public Interest Obligations

AGENCY: Federal Communications Commission.

ACTION: Final rule, denied.

SUMMARY: This document denies all Petitions for Reconsideration filed in this proceeding. This document has been superceded by a Sua Sponte Order on Reconsideration, FCC 04-44, adopted March 3, 2004 and released March 25, 2004. The new Order reflects changes in rules regarding children's advertising limits and clarification of rules regarding political broadcasting.

FOR FURTHER INFORMATION CONTACT: Rosalee Chiara, Policy Division, Media Bureau, (202) 418-0754.

SUPPLEMENTARY INFORMATION: The full text of this decision is available for inspection and copying during normal business hours in the FCC Reference Information Center, Portals II, 445 12th Street, SW., Room CY-A257, Washington, DC 20554, and may be purchased from the Commission's copy contractor, Qualex International, Portals II, 445 12th Street, SW., Room CY-B402, Washington, DC 20554, telephone (202) 863-2893, facsimile (202) 863-2898, or via e-mail qualexint@aol.com or may be viewed via Internet at http://www.fcc.gov/mb/.

Federal Communications Commission.
Marlene H. Dortch,
Secretary.

[FR Doc. 04-9171 Filed 4-21-04; 8:45 am]

BILLING CODE 6712-01-P